DEPARTMENT OF AGRICULTURE

Food Safety and Inspection Service

[Docket No. FSIS-2012-0034]

Codex Alimentarius Commission: Meeting of the Codex Committee on Processed Fruits and Vegetables

AGENCY: Office of the Under Secretary for Food Safety, USDA.

ACTION: Notice of public meeting and request for comments.

SUMMARY: The Office of the Under Secretary for Food Safety, United States Department of Agriculture (USDA), and the Agricultural Marketing Service (AMS), are sponsoring a public meeting on September 17, 2012. The objective of the public meeting is to provide information and receive public comments on agenda items and draft United States (U.S.) positions that will be discussed at the 26th session of the Codex Committee on Processed Fruits and Vegetables (CCPFV) of the Codex Alimentarius Commission (Codex), which will be held in Montego Bay, Jamaica from October 15-19, 2012. The Under Secretary for Food Safety and AMS recognize the importance of providing interested parties the opportunity to obtain background information on the 26th Session of the CCPFV and to address items on the agenda.

DATES: The public meeting is scheduled for September 17, 2012, from 1:00 p.m.-3:00 p.m.

ADDRESSES: The public meeting will be held at USDA, Jamie L. Whitten Building, 1400 Independence Avenue SW., Room 107-A, Washington, DC 20250.

Documents related to the 26th session of the CCPFV will be accessible via the World Wide Web at the following address: http://www.codexalimentarius.org/.

Dorian LaFond, U.S. Delegate to the 26th session of the CCPFV, invites U.S. interested parties to submit their comments electronically to the following email address: dorian.lafond@usda.gov.

Call-In Number:

If you wish to participate in the public meeting for the 26th session of the CCPFV by conference call, please use the call-in number and participant code listed below:

Call-in Number: 1-888-858-2144

Participant code: 6208658

For Further Information About the 26th Session of the CCPFV Contact: Dorian LaFond, AMS, Fruits and Vegetables Division, Stop 0235, Room 2086, South Agriculture Building, 1400 Independence Avenue SW., Washington, DC 20250-0235, Phone: (202) 690-4944, Fax: (202) 720-0016, Email: dorian.lafond@usda.gov.

For Further Information About the Public Meeting Contact: Jasmine Curtis, U.S. Codex Office, 1400 Independence Avenue SW., Room 4865, Washington, DC 20250. Phone: (202) 690-1124, Fax: (202) 720-3157, Email: Jasmine.Curtis@fsis.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure fair practices in the food trade.

The CCPFV is responsible for: Elaborating worldwide standards and related texts for all types of processed fruits and vegetables including but not limited to canned, dried and frozen products as well as fruit and vegetable juices and nectars.

The Committee is hosted by the United States.

Issues To Be Discussed at the Public Meeting

The following items on the agenda for the 26th session of the CCPFV will be discussed during the public meeting:

• Matters Referred to the CCPFV by Codex and Other Codex Committees

• Proposed Draft Codex Standard for Table Olives (Revision of Codex Standard 66-1981) (Step 4)

• Proposed Draft Codex Standard for Certain Canned Fruits (Revision of Remaining Individual Standards for Canned Fruits) (Step 4)

• Proposed Draft Codex Standard for Certain Quick Frozen Vegetables (Revision of Individual Standards for Quick Frozen Vegetables) (Step 4)

• Proposed Draft Sampling Plans Including Metrological Provisions for Controlling Minimum Drained Weight of Canned Fruits and Vegetables in Packing Media (Step 4)

• Food Additive Provisions for Processed Fruits and Vegetables: Additional Provisions for Inclusion in Selected Adopted and Under Development Standards

• Matters Related to Selected Codex Standards for Processed Fruits and Vegetables

• Discussion Paper on the Possible Extension of the Territorial Application of the Codex Regional Standard for Ginseng Products

• Discussion Paper on the Development of a Codex Standard for Chemically Flavored Water-Based Drinks

• Status of Work on the Revision of Codex Standards for Processed Fruits and Vegetables

Each issue listed will be fully described in documents distributed, or to be distributed, by the Secretariat prior to the meeting. Members of the public may access copies of these documents (see ADDRESSES).

Public Meeting

At the September 17, 2012, public meeting, draft U.S. positions on the agenda items will be described and discussed, and attendees will have the opportunity to pose questions and offer comments. Written comments may be offered at the meeting or sent to the U.S. Delegate for the 26th session of the CCPFV, Dorian LaFond (see ADDRESSES). Written comments should state that they relate to activities of the 26th session of the CCPFV.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/.

Options range from recalls to export information to regulations, directives, and notices. Customers can add or delete subscriptions themselves, and have the option to password protect their accounts.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, or audiotape) should contact USDA's Target Center at 202-720-2600 (voice and TTY).

To file a written complaint of discrimination, write USDA, Office of the Assistant Secretary for Civil Rights, 1400 Independence Avenue SW., Washington, DC 20250-9410 or call 202-720-5964 (voice and TTY). USDA is an equal opportunity provider and employer.

Done at Washington, DC on August 2, 2012.
Karen Stuck,
U.S. Manager for Codex Alimentarius.

[FR Doc. 2012-20814 Filed 8-23-12; 8:45 am]

BILLING CODE 3410-DM-P